DEPARTMENT OF ENERGY

Federal Energy Regulatory Commission

[Docket No. RP03-310-000]

Florida Gas Transmission Company; Notice of Proposed Changes in FERC Gas Tariff

March 26, 2003.

Take notice that on March 21, 2003, Florida Gas Transmission Company (FGT) tendered for filing to become part of its FERC Gas Tariff, Third Revised Volume No. 1, the following tariff sheets, effective April 1, 2003:

Fifty-Ninth Revised Sheet No. 8A

Fifty-First Revised Sheet No. 8A.01

Fifty-First Revised Sheet No. 8A.02

Ninth Revised Sheet No. 8A.04

Fifty-Fourth Revised Sheet No. 8B

Forty-Seventh Revised Sheet No. 8B.01

Fourth Revised Sheet No. 8B.02

FGT states that on February 28, 2003, in Docket No. RP03-268-000, FGT filed to establish a Base Fuel Reimbursement Charge Percentage (Base FRCP) of 3.49 % to become effective for the six-month Summer Period beginning April 1, 2003. FGT states that in the instant filing, it is filing a flex adjustment of (0.24%) to be effective April 1, 2003, which, when combined with the Base FRCP of 3.49% results in an Effective Fuel Reimbursement Charge Percentage of 3.25%. FGT states that this filing is necessary because it is currently experiencing lower fuel usage than will be recovered by the Base FRCP of 3.49%. FGT explains that decreasing the FRCP will reduce FGT's overrecovery of fuel and reduce the Unit Fuel Surcharge in the next Summer Period.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 2, 2003.

Magalie R. Salas,
Secretary.

[FR Doc. 03-7874 Filed 4-1-03; 8:45 am]

BILLING CODE 6717-01-P